DEPARTMENT OF TRANSPORTATION

Federal Aviation Administration

14 CFR Part 71

[Docket No. FAA-2022-0625; Airspace Docket No. 21-AEA-11]

RIN 2120-AA66

Proposed Establishment and Amendment of Area Navigation Routes; Northeastern United States

AGENCY: Federal Aviation Administration (FAA), DOT.

ACTION: Notice of proposed rulemaking (NPRM).

SUMMARY: This action proposes to establish 9 new High Altitude Area Navigation (RNAV) routes (Q-routes), and modify 12 existing Q-routes, in support of the Northeast Corridor Atlantic Coast Route (NEC ACR) Project. This proposal would improve the efficiency of the National Airspace System (NAS) by expanding the availability of RNAV routing and reducing the dependency on ground-based navigational systems.

DATES: Comments must be received on or before July 18, 2022.

ADDRESSES: Send comments on this proposal to the U.S. Department of Transportation, Docket Operations, 1200 New Jersey Avenue SE, West Building Ground Floor, Room W12-140, Washington, DC 20590; telephone: (800) 647-5527 or (202) 366-9826. You must identify FAA Docket No. FAA-2022-0625; Airspace Docket No. 21-AEA-11 at the beginning of your comments. You may also submit comments through the internet at https://www.regulations.gov.

FAA Order JO 7400.11F, Airspace Designations and Reporting Points, and subsequent amendments can be viewed online at httsp://www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV routes in the NAS, increase airspace capacity, and reduce complexity in high air traffic volume areas.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-0625; Airspace Docket No. 21-AEA-11) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2022-0625; Airspace Docket No. 21-AEA-11.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRM's

An electronic copy of this document may be downloaded through the internet at https://www.regulations.gov. Recently published rulemaking documents can also accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Availability and Summary of Documents for Incorporation by Reference

This document proposes to amend FAA Order JO 7400.11F, Airspace Designations and Reporting Points, dated August 10, 2021, and effective September 15, 2021. FAA Order JO 7400.11F is publicly available as listed in the ADDRESSES section of this proposed rule. FAA Order JO 7400.11F lists Class A, B, C, D, and E airspace areas, air traffic service routes, and reporting points.

Background

The Northeast Corridor Atlantic Coast Route (NEC ACR) project developed Performance Based Navigation (PBN) routes involving the Washington, Boston, New York, and Jacksonville Air Route Traffic Control Centers (ARTCC). The proposed routes would enable aircraft to travel from most locations along the east coast of the United States mainland between Maine and Charleston, SC. The proposed NEC ACR routes would also tie-in to the existing high altitude RNAV route structure enabling more efficient direct routings between the U.S. east coast and Caribbean area locations.

Additionally, the proposed Q-routes would support the strategy to transition the NAS from a ground-based navigation aid, and radar-based system, to a satellite-based PBN system.

The Proposal

The FAA is proposing an amendment to Title 14, Code of Federal Regulations (14 CFR) part 71 to establish 9 new Q-routes, and amend 12 existing Q-routes, in the northeastern United States to support the Northeast Corridor Atlantic Coast Route project. The proposed new routes would be designated: Q-101, Q-107, Q-111, Q-117, Q-131, Q-133, Q-167, Q-445, and Q-481. In addition, amendments are proposed to the descriptions of the following existing routes: Q-22, Q-34, Q-60, Q-85, Q-87, Q-97, Q-99, Q-109, Q-113, Q-135, Q-409, and Q-419.

Note: The route descriptions of Q-97, Q-109, Q-167, and Q-445 include waypoints located over international waters. In those route descriptions, in place of a two-letter state abbreviation, either “OA,” meaning “Offshore Atlantic,” or “OG,” meaning “Offshore Gulf of Mexico,” is used.

The proposed new Q-routes are as follows:

Q-101: Q-101 would extend between the SKARP, NC, waypoint (WP), and the TUGGR, VA, WP.

Q-107: Q-107 would extend between the GARIC, NC, WP, and the HURTS, VA, WP.

Q-111: Q-111 would extend between the ZORDO, NC, WP, and the ALXEA, VA, WP.

Q-117: Q-117 would extend between the YLEEE, NC, WP, and the SAWED, VA, FIX.

Q-131: Q-131 would extend between the ZILLS, NC, WP, and the ZJAAY, MD, WP.

Q-133: Q-133 would extend between the CHIEZ, NC, WP, and the PONCT, NY, WP.

Q-167: Q167 would extend between the ZJAAY, MD, WP, and the SSOXS, MA, FIX.

Q-445: Q-445 would extend between the PAACK, NC, WP, and the KYSKY, NY, FIX.

Q-481: Q-481 would extend between the CONFR, MD, WP, and the Deer Park, NY (DPK), VHF Omnidirectional Range/Distance Measuring Equipment (VOR/DME).

The above proposed new Q-routes would provide high altitude RNAV routing options in the general area between North Carolina and New England.

The proposed Q-route amendments are as follows:

Q-22: Q-22 extends between the GUSTI, LA, FIX, and the FOXWOOD, CT, WP. This action would replace the Spartanburg, SC, (SPA) VHF Omnidirectional Range and Tactical Air Navigational System (VORTAC) with the BURGG, SC, WP. The following points would be removed from the route description because they do not denote a turn point or are not required to determine route alignment: NYBLK, NC, WP; MASHI, NC, WP; KIDDO, NC, WP; OMENS, VA, WP; UMBRE, VA, WP; SYFER, MD, WP; PYTHN, DE, WP; and LAURN, NY, FIX. The JOEPO, NJ, WP would be moved 0.64 nautical miles (NM) southeast of its current position as requested by air traffic control to improve traffic efficiency.

Q-34: Q-34 extends from the Texarkana, AR, (TXK) VORTAC to the Robbinsville, NJ, (RBV) VORTAC. This proposal would remove the following points from the route description: KONGO, KY, FIX; LOOSE, AR, WP; MATIE, AR, FIX; MEMFS, TN, WP; SWAPP, TN, FIX; GHATS, KY, FIX; FOUNT, KY, FIX; TONIO, KY, FIX; NEALS, WV, FIX; ASBUR, WV, FIX; DUALY, MD, WP; and BIGRD, MD, WP. These points are not required in the route legal description because they do not affect the alignment of the route. The HITMN, TN, WP would be inserted after the Texarkana, AR, (TXK) VORTAC. The HULKK, NJ, WP would be moved 2.36 NM southeast of its current position as requested by air traffic control to improve air traffic efficiency.

Q-60: Q-60 extends between the Spartanburg, SC, (SPA) VORTAC, and the JAXSN, VA, FIX. This proposal would extend Q-60 northeast from the JAXSN, VA, FIX, to the HURTS, VA, WP. The Spartanburg VORTAC would be replaced by the BURGG, SC, WP. The BYJAC, NC, FIX, and the LOOEY, VA, WP, would be removed from the route because they do not denote a turn point.

Q-85: Q-85 extends between the LPERD, FL, WP, and the SMPRR, NC, WP. This proposal would further extend Q-85 from the SMPRR, NC, WP, northeast to the CRPLR, VA WP by adding the PBCUP, NC, WP, the MOXXY, NC, WP, and the CRPLR, VA, WP, after the SMPRR, NC, WP. As amended, Q-85 would extend between the LPERD, FL, WP, and the CRPLR, VA, WP.

Q-87: Q-87 extends between the PEAKY, FL, WP, and the LCAPE, SC, WP. This action route would extend Q-87 from the LCAPE, SC, WP, northeastward to the HURTS, VA, WP. The following points would be inserted after the LCAPE, SC, WP: ALWZZ, NC, WP; ASHEL, NC, WP; DADDS, NC, WP; NOWAE, NC, WP; RIDDN, VA, WP; GEARS, VA, WP; and HURTS, VA, WP. The amended route would extend between PEAKY, FL, and HURTS, VA.

Q-97: Q-97 extends between TOVAR, FL, WP, and the ELLDE, NC, WP. The route would be extended northeast of the ELLDE, NC, WP to the Presque Isle, ME, (PQI) VOR/DME. The following points would be inserted after the ELLDE, NC, WP: YEASO, NC, WP; PAACK, NC, WP; KOHLS, NC, WP; SAWED, VA, FIX; KALDA, VA, FIX; ZJAAY, MD, WP; DLAAY, MD, WP; BRIGS, NJ, FIX; HEADI, NJ, WP; SAILN, OA, WP; Calverton, NY, (CCC) VOR/DME; NTMEG, CT, WP; VENTE, MA, WP; BLENO, NH, WP; BEEKN, ME, WP; FRIAR, ME, FIX, and the Presque Isle, ME, (PQI) VOR/DME. This change would provide RNAV routing from southern North Carolina to Maine.

Q-99: Q-99 extends between the KPASA, FL, WP, and the POLYY, NC, WP. Q-99 would be amended by extending the route northeastward from the POLYY, NC, WP to the HURLE, VA, WP. The following points would be inserted after the POLYY, NC, WP: RAANE, NC, WP; OGRAE, NC, WP; PEETT, NC, WP; SHIRY, VA, WP; UMBRE, VA, WP; QUART, VA, WP; and HURLE, VA, WP. As amended, Q-99 would extend between the KPASA, FL WP, and the HURLE, VA, WP.

Q-109: Q-109 extends between the KNOST, OG, WP, and the LAANA, NC, WP. This action would extend Q-109 northeastward from the LAANA, NC, WP, to the DFENC, NC, WP. The TINKK, NC, WP would be added between LAANA and DFENC. As amended, Q-109 would extend between the KNOST, OG, WP, and the DFENC, NC, WP.

Q-113: Q-113 extends between the RAYVO, SC, WP, and the SARKY, SC, WP. The route would be extended from the SARKY, SC, WP northeastward by adding the following WPs: MARCL, NC; AARNN, NC; and RIDDN, VA. As amended, Q-113 would extend between RAYVO, SC, and RIDDN, VA.

Q-135: Q-135 extends between the JROSS, SC, WP, and the RAPZZ, NC, WP. The route would be extended to the northeast of the RAPZZ, NC, WP by adding the ZORDO, NC, and the CUDLE, NC, WPs to the route. As amended, Q-135 would extend between the JROSS, SC, WP, and the CUDLE, NC, WP.

Q-409: Q-409 extends between the ENEME, GA, WP, and the MRPIT, NC, WP. Q-409 would remain as currently charted between the ENEME, GA, WP, and the MRPIT, NC, WP. The route would be extended to the northeast of the MRPIT WP by adding the following points: DEEEZ, NC, WP; GUILD, NC, WP; CRPLR, VA, WP; TRPOD, MD, WP; GNARO, DE, WP; VILLS, NJ, FIX; Coyle, NJ, (CYN) VORTAC; to the WHITE, NJ, FIX. As amended, Q-409 would extend between the ENEME, GA, WP, and the WHITE, NJ, WP. This would extend RNAV routing from southern North Carolina to New Jersey.

Q-419: Q-419 extends between the BROSS, MD, FIX and the Deer Park, NY, VOR/DME. This proposal would remove the MYFOO, DE, WP, and the NACYN, NJ, WP from the route description because they do not mark a turn point on the route. In addition, the HULKK, NJ, WP, would be moved 2.36 NM southeast of its current position as requested by air traffic control to improve air traffic efficiency.

Full route descriptions of the proposed new and amended routes are listed in “The Proposed Amendment” section of this notice.

The proposed route changes in this notice would expand the availability of high altitude RNAV routing along the eastern seaboard of the U.S. The project is designed to increase airspace capacity and reduce complexity in high volume areas through the use of optimized routes through congested airspace.

RNAV routes are published in paragraph 2006 of FAA Order JO 7400.11F dated August 10, 2021 and effective September 15, 2021, which is incorporated by reference in 14 CFR 71.1. The RNAV routes listed in this document would be subsequently published in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021 is amended as follows:

Paragraph 2006 United States Area Navigation Routes

* * * * *

Q-22 GUSTI, LA to FOXWD, CT [Amended]
GUSTI, LA | FIX | (Lat. 29°58′15.34″ N, long. 092°54′35.29″ W)
OYSTY, LA | FIX | (Lat. 30°28′15.21″ N, long. 090°11′49.14″ W)
ACMES, AL | WP | (Lat. 30°55′27.13″ N, long. 088°22′10.82″ W)
CATLN, AL | FIX | (Lat. 31°18′26.03″ N, long. 087°34′47.75″ W)
TWOUP, GA | WP | (Lat. 33°53′45.39″ N, long. 083°49′08.39″ W)
BURGG, SC | WP | (Lat. 35°02′00.55″ N, long. 081°55′36.86″ W)
BEARI, VA | WP | (Lat. 37°12′01.97″ N, long. 078°15′23.85″ W)
BBOBO, VA | WP | (Lat. 37°41′33.79″ N, long. 077°07′57.59″ W)
SHTGN, MD | WP | (Lat. 38°14′45.29″ N, long. 076°44′52.23″ W)
DANGR, MD | WP | (Lat. 38°57′36.25″ N, long. 075°58′30.85″ W)
BESSI, NJ | FIX | (Lat. 39°40′34.84″ N, long. 075°06′44.53″ W)
JOEPO, NJ | WP | (Lat. 39°53′57.33″ N, long. 074°51′39.48″ W)
BRAND, NJ | FIX | (Lat. 40°02′06.28″ N, long. 074°44′09.50″ W)
Robbinsville, NJ (RBV) | VORTAC | (Lat. 40°12′08.65″ N, long. 074°29′42.09″ W)
LLUND, NY | FIX | (Lat. 40°51′45.04″ N, long. 073°46′57.30″ W)
BAYYS, CT | FIX | (Lat. 41°17′21.27″ N, long. 072°58′16.73″ W)
FOXWD, CT | WP | (Lat. 41°48′21.66″ N, long. 071°48′07.03″ W)
* * * * * *
Q-34 Texarkana, AR (TXK) to Robbinsville, NJ (RBV) [Amended]
Texarkana, AR (TXK) | VORTAC | (Lat. 33°30′49.97″ N, long. 094°04′23.67″ W)
HITMN, TN | WP | (Lat. 36°08′12.47″ N, long. 086°41′05.25″ W)
SITTR, WV | WP | (Lat. 37°46′49.13″ N, long. 081°07′23.70″ W)
DENNY, VA | FIX | (Lat. 37°52′00.15″ N, long. 079°44′13.75″ W)
MAULS, VA | WP | (Lat. 37°52′49.36″ N, long. 079°19′49.19″ W)
Gordonsville, VA (GVE) | VORTAC | (Lat. 38°00′48.96″ N, long. 078°09′10.90″ W)
BOOYA, VA | WP | (Lat. 38°24′20.50″ N, long. 077°21′46.36″ W)
PNGWN, NJ | WP | (Lat. 39°39′27.07″ N, long. 075°30′41.79″ W)
HULKK, NJ | WP | (Lat. 39°58′08.70″ N, long. 074°57′15.95″ W)
Robbinsville, NJ (RBV) | VORTAC | (Lat. 40°12′08.65″ N, long. 074°29′42.09″ W)
* * * * * * *
Q-60 BURGG, SC to HURTS, VA [Amended]
BURGG, SC | WP | (Lat. 35°02′00.55″ N, long. 081°55′36.86″ W)
EVING, NC | WP | (Lat. 36°05′21.65″ N, long. 079°53′56.38″ W)
JAXSN, VA | FIX | (Lat. 36°42′38.22″ N, long. 078°47′23.31″ W)
HURTS, VA | WP | (Lat. 37°27′41.87″ N, long. 076°57′17.75″ W)
* * * * * * *
Q-85 LPERD, FL to CRPLR, VA [Amended]
LPERD, FL | WP | (Lat. 30°36′09.18″ N, long. 081°16′52.16″ W)
BEEGE, GA | WP | (Lat. 31°10′59.98″ N, long. 081°16′57.50″ W)
GIPPL, GA | WP | (Lat. 31°22′53.96″ N, long. 081°09′53.70″ W)
ROYCO, GA | WP | (Lat. 31°35′10.38″ N, long. 081°02′22.45″ W)
IGARY, SC | WP | (Lat. 32°34′41.37″ N, long. 080°22′36.01″ W)
PELIE, SC | WP | (Lat. 33°21′23.88″ N, long. 079°44′43.43″ W)
BUMMA, SC | WP | (Lat. 34°01′58.09″ N, long. 079°11′07.50″ W)
KAATT, NC | WP | (Lat. 34°15′35.43″ N, long. 078°59′42.38″ W)
SMPRR, NC | WP | (Lat. 34°26′28.32″ N, long. 078°50′31.80″ W)
PBCUP, NC | WP | (Lat. 34°59′29.65″ N, long. 078°19′51.07″ W)
MOXXY, NC | WP | (Lat. 36°02′46.63″ N, long. 077°19′31.71″ W)
CRPLR, VA | WP | (Lat. 37°36′24.01″ N, long. 076°09′57.67″ W)
* * * * * * *
Q-87 PEAKY, FL to HURTS, VA [Amended]
PEAKY, FL | WP | (Lat. 24°35′23.72″ N, long. 081°08′53.91″ W)
GOPEY, FL | WP | (Lat. 25°09′32.92″ N, long. 081°05′17.11″ W)
GRIDS, FL | WP | (Lat. 26°24′54.27″ N, long. 080°57′11.40″ W)
TIRCO, FL | WP | (Lat. 27°19′05.75″ N, long. 080°51′16.67″ W)
MATLK, FL | WP | (Lat. 27°49′36.54″ N, long. 080°57′04.27″ W)
ONEWY, FL | WP | (Lat. 28°21′53.66″ N, long. 081°03′21.04″ W)
ZERBO, FL | WP | (Lat. 28°54′56.68″ N, long. 081°17′40.13″ W)
DUCEN, FL | WP | (Lat. 29°16′33.83″ N, long. 081°19′23.24″ W)
OVENP, FL | WP | (Lat. 30°08′04.41″ N, long. 081°22′26.25″ W)
FEMON, FL | WP | (Lat. 30°27′31.57″ N, long. 081°23′36.20″ W)
VIYAP, GA | FIX | (Lat. 31°15′08.15″ N, long. 081°26′08.18″ W)
SUSYQ, GA | WP | (Lat. 31°40′54.28″ N, long. 081°12′07.99″ W)
TAALN, GA | WP | (Lat. 31°59′56.18″ N, long. 081°01′41.91″ W)
JROSS, SC | WP | (Lat. 32°42′40.00″ N, long. 080°37′38.00″ W)
RAYVO, SC | WP | (Lat. 33°38′44.12″ N, long. 080°04′00.84″ W)
HINTZ, SC | WP | (Lat. 34°10′11.02″ N, long. 079°44′48.12″ W)
REDFH, SC | WP | (Lat. 34°22′36.35″ N, long. 079°37′08.34″ W)
LCAPE, SC | WP | (Lat. 34°33′03.47″ N, long. 079°30′39.47″ W)
ALWZZ, NC | WP | (Lat. 34°42′02.90″ N, long. 079°24′36.57″ W)
ASHEL, NC | WP | (Lat. 35°25′43.32″ N, long. 078°54′48.07″ W)
DADDS, NC | WP | (Lat. 35°36′30.35″ N, long. 078°47′20.70″ W)
NOWAE, NC | WP | (Lat. 36°22′39.49″ N, long. 078°14′59.21″ W)
RIDDN, VA | WP | (Lat. 36°47′21.19″ N, long. 077°45′50.29″ W)
GEARS, VA | WP | (Lat. 37°06′07.23″ N, long. 077°23′24.43″ W)
HURTS, VA | WP | (Lat. 37°27′41.87″ N, long. 076°57′17.75″ W)
* * * * * * *
Q-97 TOVAR, FL to Presque Isle, ME (PQI) [Amended]
TOVAR, FL | WP | (Lat. 26°33′05.09″ N, long. 080°02′19.75″ W)
EBAYY, FL | WP | (Lat. 27°43′40.20″ N, long. 080°30′03.59″ W)
MALET, FL | FIX | (Lat. 28°41′29.90″ N, long. 080°52′04.30″ W)
DEBRL, FL | WP | (Lat. 29°17′48.73″ N, long. 081°08′02.88″ W)
KENLL, FL | WP | (Lat. 29°34′28.35″ N, long. 081°07′25.26″ W)
PRMUS, FL | WP | (Lat. 29°49′05.67″ N, long. 081°07′20.74″ W)
WOPNR, OA | WP | (Lat. 30°37′36.03″ N, long. 081°04′26.44″ W)
JEVED, GA | WP | (Lat. 31°15′02.60″ N, long. 081°03′40.14″ W)
CAKET, SC | WP | (Lat. 32°31′08.63″ N, long. 080°16′09.21″ W)
ELMSZ, SC | WP | (Lat. 33°40′36.61″ N, long. 079°17′59.56″ W)
YURCK, NC | WP | (Lat. 34°11′14.80″ N, long. 078°52′40.62″ W)
ELLDE, NC | WP | (Lat. 34°24′14.57″ N, long. 078°41′50.60″ W)
YEASO, NC | WP | (Lat. 35°33′12.41″ N, long. 077°37′07.28″ W)
PAACK, NC | WP | (Lat. 35°55′40.26″ N, long. 077°15′30.99″ W)
KOHLS, NC | WP | (Lat. 36°22′17.76″ N, long. 076°52′21.48″ W)
SAWED, VA | FIX | (Lat. 37°32′00.73″ N, long. 075°51′29.10″ W)
KALDA, VA | FIX | (Lat. 37°50′31.05″ N, long. 075°37′35.34″ W)
ZJAAY, MD | WP | (Lat. 38°03′09.95″ N, long. 075°26′34.27″ W)
DLAAY, MD | WP | (Lat. 38°24′42.80″ N, long. 075°08′56.85″ W)
BRIGS, NJ | FIX | (Lat. 39°31′24.72″ N, long. 074°08′19.67″ W)
HEADI, NJ | WP | (Lat. 39°57′49.56″ N, long. 073°43′28.85″ W)
SAILN, OA | WP | (Lat. 40°15′15.92″ N, long. 073°27′01.93″ W)
Calverton, NY (CCC) | VOR/DME | (Lat. 40°55′46.63″ N, long. 072°47′55.89″ W)
NTMEG, CT | WP | (Lat. 41°16′30.75″ N, long. 072°28′52.08″ W)
VENTE, MA | WP | (Lat. 42°08′24.33″ N, long. 071°53′38.08″ W)
BLENO, NH | WP | (Lat. 42°54′55.00″ N, long. 071°04′43.37″ W)
BEEKN, ME | WP | (Lat. 43°20′51.95″ N, long. 070°44′50.28″ W)
FRIAR, ME | FIX | (Lat. 44°26′28.93″ N, long. 069°53′04.38″ W)
Presque Isle, ME (PQI) | VOR/DME | (Lat. 46°46′27,07″ N, long. 068°05′40.37″ W)
* * * * * * *
Q-99 KPASA, FL to HURLE, VA [Amended]
KPASA, FL | WP | (Lat. 28°10′34.00″ N, long. 081°54′27.00″ W)
DOFFY, FL | WP | (Lat. 29°15′22.73″ N, long. 082°31′38.10″ W)
CAMJO, FL | WP | (Lat. 30°30′32.00″ N, long. 082°41′11.00″ W)
HEPAR, GA | WP | (Lat. 31°05′13.00″ N, long. 082°33′46.00″ W)
TEEEM, GA | WP | (Lat. 32°08′41.20″ N, long. 081°54′50.57″ W)
BLAAN, SC | WP | (Lat. 33°51′09.38″ N, long. 080°53′32.78″ W)
BWAGS, SC | WP | (Lat. 34°00′03.77″ N, long. 080°45′12.26″ W)
EFFAY, SC | WP | (Lat. 34°15′30.67″ N, long. 080°30′37.94″ W)
WNGUD, SC | WP | (Lat. 34°41′53.16″ N, long. 080°06′12.12″ W)
POLYY, NC | WP | (Lat. 34°48′37.54″ N, long. 079°59′55.81″ W)
RAANE, NC | WP | (Lat. 35°09′21.97″ N, long. 079°41′33.90″ W)
OGRAE, NC | WP | (Lat. 35°44′44.41″ N, long. 079°11′07.71″ W)
PEETT, NC | WP | (Lat. 36°26′44.93″ N, long. 078°34′16.17″ W)
SHIRY, VA | WP | (Lat. 36°58′33.28″ N, long. 078°09′13.11″ W)
UMBRE, VA | WP | (Lat. 37°23′38.72″ N, long. 077°49′09.50″ W)
QUART, VA | WP | (Lat. 37°31′25.15″ N, long. 077°42′53.29″ W)
HURLE, VA | WP | (Lat. 37°44′01.09″ N, long. 077°32′42.16″ W)
Q-101 SKARP, NC to TUGGR, VA [New]
SKARP, NC | WP | (Lat. 34°29′10.30″ N, long. 077°24′37.54″ W)
PRANK, NC | WP | (Lat. 35°14′27.41″ N, long. 076°56′28.54″ W)
BGBRD, NC | WP | (Lat. 35°53′45.11″ N, long. 076°32′23.15″ W)
HYPAL, VA | WP | (Lat. 37°03′27.23″ N, long. 075°44′43.09″ W)
TUGGR, VA | WP | (Lat. 37°41′08.72″ N, long. 075°36′36.92″ W)
* * * * * * *
Q-107 GARIC, NC to HURTS, VA [New]
GARIC, NC | WP | (Lat. 33°52′34.84″ N, long. 077°58′53.66″ W)
ZORDO, NC | WP | (Lat. 34°52′01.73″ N, long. 077°49′30.60″ W)
JAAMS, NC | WP | (Lat. 35°44′18.05″ N, long. 077°31′41.60″ W)
ALINN, NC | WP | (Lat. 36°28′15.05″ N, long. 077°17′15.81″ W)
HURTS, VA | WP | (Lat. 37°27′41.87″ N, long. 076°57′17.75″ W)
Q-109 KNOST, OG to DFENC, NC [Amended]
KNOST, OG | WP | (Lat. 28°00′02.55″ N, long. 083°25′23.99″ W)
DEANR, FL | WP | (Lat. 29°15′30.40″ N, long. 083°03′30.24″ W)
BRUTS, FL | WP | (Lat. 29°30′58.00″ N, long. 082°58′57.00″ W)
EVANZ, FL | WP | (Lat. 29°54′12.11″ N, long. 082°52′03.81″ W)
CAMJO, FL | WP | (Lat. 30°30′32.00″ N, long. 082°41′11.00″ W)
HEPAR, GA | WP | (Lat. 31°05′13.00″ N, long. 082°33′46.00″ W)
TEEEM, GA | WP | (Lat. 32°08′41.20″ N, long. 081°54′50.57″ W)
RIELE, SC | WP | (Lat. 32°37′27.14″ N, long. 081°23′34.97″ W)
PANDY, SC | WP | (Lat. 33°28′29.39″ N, long. 080°26′55.21″ W)
RAYVO, SC | WP | (Lat. 33°38′44.12″ N, long. 080°04′00.84″ W)
SESUE, SC | WP | (Lat. 33°52′02.58″ N, long. 079°33′51.88″ W)
BUMMA, SC | WP | (Lat. 34°01′58.09″ N, long. 079°11′07.50″ W)
YURCK, NC | WP | (Lat. 34°11′14.80″ N, long. 078°52′40.62″ W)
LAANA, NC | WP | (Lat. 34°19′41.35″ N, long. 078°35′37.16″ W)
TINKK, NC | WP | (Lat. 34°51′03.78″ N, long. 078°05′48.08″ W)
DFENC, NC | WP | (Lat. 35°55′11.09″ N, long. 077°03′37.54″ W)
* * * * * * *
Q-111 ZORDO, NC to ALXEA, VA [New]
ZORDO, NC | WP | (Lat. 34°52′01.73″ N, long. 077°49′30.60″ W)
LARKE, NC | WP | (Lat. 35°36′16.63″ N, long. 077°39′33.59″ W)
RUKRR, VA | WP | (Lat. 36°33′00.47″ N, long. 077°29′22.43″ W)
GEARS, VA | WP | (Lat. 37°06′07.23″ N, long. 077°23′24.43″ W)
BUDWY, VA | WP | (Lat. 37°36′38.12″ N, long. 077°19′22.71″ W)
ALXEA, VA | WP | (Lat. 37°47′04.46″ N, long. 077°17′09.73″ W)
Q-113 RAYVO, SC to RIDDN, VA [Amended]
RAYVO, SC | WP | (Lat. 33°38′44.12″ N, long. 080°04′00.84″ W)
CEELY, SC | WP | (Lat. 34°12′54.72″ N, long. 079°27′57.01″ W)
SARKY, SC | WP | (Lat. 34°25′41.43″ N, long. 079°14′17.50″ W)
MARCL, NC | WP | (Lat. 35°43′54.41″ N, long. 078°25′46.57″ W)
AARNN, NC | WP | (Lat. 36°22′43.59″ N, long. 078°01′04.05″ W)
RIDDN, VA | WP | (Lat. 36°47′21.19″ N, long. 077°45′50.29″ W)
* * * * * * *
Q-117 YLEEE, NC to SAWED, VA [New]
YLEEE, NC | WP | (Lat. 34°33′40.63″ N, long. 077°40′27.89″ W)
CUDLE, NC | WP | (Lat. 35°08′19.48″ N, long. 077°32′36.22″ W)
SUSSA, NC | WP | (Lat. 35°40′37.55″ N, long. 077°08′20.62″ W)
KTEEE, NC | WP | (Lat. 35°54′55.66″ N, long. 076°57′30.45″ W)
SAWED, VA | FIX | (Lat. 37°32′00.73″ N, long. 075°51′29.10″ W)
* * * * * * *
Q-131 ZILLS, NC to ZJAAY, MD [New]
ZILLS, NC | WP | (Lat. 33°47′32.68″ N, long. 077°52′08.59″ W)
YLEEE, NC | WP | (Lat. 34°33′40.63″ N, long. 077°40′27.89″ W)
EARZZ, NC | WP | (Lat. 35°54′39.84″ N, long. 076°51′21.64″ W)
ODAWG, VA | WP | (Lat. 37°07′11.61″ N, long. 076°02′03.17″ W)
KALDA, VA | FIX | (Lat. 37°50′31.05″ N, long. 075°37′35.34″ W)
ZJAAY, MD | WP | (Lat. 38°03′09.95″ N, long. 075°26′34.27″ W)
* * * * * * *
Q-133 CHIEZ, NC to PONCT, NY [New]
CHIEZ, NC | WP | (Lat. 34°31′05.93″ N, long. 077°32′25.74″ W)
BENCH, NC | WP | (Lat. 35°34′48.52″ N, long. 076°53′51.13″ W)
KOOKI, NC | WP | (Lat. 35°54′21.71″ N, long. 076°41′56.22″ W)
PYSTN, VA | WP | (Lat. 37°05′19.78″ N, long. 075°53′22.19″ W)
KALDA, VA | FIX | (Lat. 37°50′31.05″ N, long. 075°37′35.34″ W)
CONFR, MD | WP | (Lat. 38°16′10.90″ N, long. 075°24′32.98″ W)
MGERK, DE | WP | (Lat. 38°46′16.00″ N, long. 075°18′09.00″ W)
LEEAH, NJ | FIX | (Lat. 39°15′39.27″ N, long. 074°57′11.01″ W)
MYRCA, NJ | WP | (Lat. 40°20′42.97″ N, long. 073°56′58.07″ W)
Kennedy, NY (JFK) | VOR/DME | (Lat. 40°37′58.40″ N, long. 073°46′17.00″ W)
LLUND, NY | FIX | (Lat. 40°51′45.04″ N, long. 073°46′57.30″ W)
FARLE, NY | FIX | (Lat. 41°09′09.46″ N, long. 073°47′48.52″ W)
GANDE, NY | FIX | (Lat. 41°30′36.66″ N, long. 073°48′52.03″ W)
PONCT, NY | WP | (Lat. 42°44′48.83″ N, long. 073°48′48.07″ W)
* * * * * * *
Q-135 JROSS, SC to CUDLE, NC [Amended]
JROSS, SC | WP | (Lat. 32°42′40.00″ N, long. 080°37′38.00″ W)
PELIE, SC | WP | (Lat. 33°21′23.88″ N, long. 079°44′43.43″ W)
ELMSZ, SC | WP | (Lat. 33°40′36.61″ N, long. 079°17′59.56″ W)
RAPZZ, NC | WP | (Lat. 34°15′03.34″ N, long. 078°29′17.58″ W)
ZORDO, NC | WP | (Lat. 34°52′01.73″ N, long. 077°49′30.60″ W)
CUDLE, NC | WP | (Lat. 35°08′19.48″ N, long. 077°32′36.22″ W)
* * * * * * *
Q-167 ZJAAY, MD to SSOXS, MA [New]
ZJAAY, MD | WP | (Lat. 38°03′09.95″ N, long. 075°26′34.27″ W)
PAJET, MD | WP | (Lat. 38°28′04.13″ N, long. 075°03′00.55″ W)
CAANO, MD | WP | (Lat. 38°31′46.37″ N, long. 074°58′52.32″ W)
TBONN, OA | WP | (Lat. 38°45′02.83″ N, long. 074°45′03.77″ W)
ZIZZI, NJ | FIX | (Lat. 38°56′26.46″ N, long. 074°31′44.27″ W)
YAZUU, NJ | FIX | (Lat. 39°24′44.82″ N, long. 074°01′01.55″ W)
TOPRR, OA | WP | (Lat. 39°50′49.13″ N, long. 073°32′12.02″ W)
EMJAY, NJ | FIX | (Lat. 40°05′34.89″ N, long. 073°15′42.31″ W)
SPDEY, OA | WP | (Lat. 40°14′56.38″ N, long. 073°05′08.69″ W)
RIFLE, NY | FIX | (Lat. 40°41′24.18″ N, long. 072°34′54.89″ W)
HOFFI, NY | FIX | (Lat. 40°48′03.46″ N, long. 072°27′41.97″ W)
ORCHA, NY | WP | (Lat. 40°54′55.46″ N, long. 072°18′43.64″ W)
ALBOW, NY | WP | (Lat. 41°02′04.04″ N, long. 071°58′30.69″ W)
GRONC, NY | WP | (Lat. 41°08′42.80″ N, long. 071°45′27.74″ W)
NESTT, RI | WP | (Lat. 41°21′35.84″ N, long. 071°20′05.38″ W)
BUZRD, MA | WP | (Lat. 41°32′45.88″ N, long. 070°57′50.69″ W)
SSOXS, MA | FIX | (Lat. 41°50′12.62″ N, long. 070°44′46.26″ W)
* * * * * * *
Q-409 ENEME, GA to WHITE, NJ [Amended]
ENEME, GA | WP | (Lat. 30°42′12.09″ N, long. 082°26′09.31″ W)
PUPYY, GA | WP | (Lat. 31°24′35.58″ N, long. 081°49′06.19″ W)
ISUZO, GA | WP | (Lat. 31°57′47.85″ N, long. 081°14′14.79″ W)
KONEY, SC | WP | (Lat. 32°17′01.62″ N, long. 081°01′23.79″ W)
JROSS, SC | WP | (Lat. 32°42′40.00″ N, long. 080°37′38.00″ W)
SESUE, SC | WP | (Lat. 33°52′02.58″ N, long. 079°33′51.88″ W)
OKNEE, SC | WP | (Lat. 34°15′39.92″ N, long. 079°10′40.68″ W)
MRPIT, NC | WP | (Lat. 34°26′05.09″ N, long. 079°01′45.10″ W)
DEEEZ, NC | WP | (Lat. 35°16′55.92″ N, long. 078°14′24.28″ W)
GUILD, NC | WP | (Lat. 36°18′49.56″ N, long. 077°14′59.96″ W)
CRPLR, VA | WP | (Lat. 37°36′24.01″ N, long. 076°09′57.67″ W)
TRPOD, MD | WP | (Lat. 38°20′17.30″ N, long. 075°30′28.27″ W)
GNARO, DE | WP | (Lat. 39°05′20.33″ N, long. 075°22′14.81″ W)
VILLS, NJ | FIX | (Lat. 39°18′03.87″ N, long. 075°06′37.89″ W)
Coyle, NJ (CYN) | VORTAC | (Lat. 39°49′02.42″ N, long. 074°25′53.85″ W)
WHITE, NJ | FIX | (Lat. 40°00′24.32″ N, long. 074°15′04.61″ W)
Q-419 BROSS, MD to Deer Park, NY (DPK) [Amended]
BROSS, MD | FIX | (Lat. 39°11′28.40″ N, long. 075°52′49.88″ W)
BSERK, NJ | WP | (Lat. 39°47′27.01″ N, long. 075°13′10.29″ W)
HULKK, NJ | WP | (Lat. 39°58′08.70″ N, long. 074°57′15.95″ W)
Robbinsville, NJ (RBV) | VORTAC | (Lat. 40°12′08.65″ N, long. 074°29′42.09″ W)
LAURN, NY | FIX | (Lat. 40°33′05.80″ N, long. 074°07′13.67″ W)
Kennedy, NY (JFK) | VOR/DME | (Lat. 40°37′58.40″ N, long. 073°46′17.00″ W)
Deer Park, NY (DPK) | VOR/DME | (Lat. 40°47′30.30″ N, long. 073°18′13.17″ W)
* * * * * * *
Q-445 PAACK, NC to KYSKY, NY [New]
PAACK, NC | WP | (Lat. 35°55′40.26″ N, long. 077°15′30.99″ W)
JAMIE, VA | FIX | (Lat. 37°36′20.58″ N, long. 075°57′48.81″ W)
CONFR, MD | WP | (Lat. 38°16′10.90″ N, long. 075°24′32.98″ W)
RADDS, DE | FIX | (Lat. 38°38′54.80″ N, long. 075°05′18.48″ W)
WNSTN, NJ | WP | (Lat. 39°05′43.81″ N, long. 074°48′01.20″ W)
AVALO, NJ | FIX | (Lat. 39°16′54.52″ N, long. 074°30′50.75″ W)
BRIGS, NJ | FIX | (Lat. 39°31′24.72″ N, long. 074°08′19.67″ W)
SHAUP, OA | WP | (Lat. 39°44′23.91″ N, long. 073°34′33.84″ W)
VALCO, OA | WP | (Lat. 40°05′29.86″ N, long. 073°08′22.91″ W)
KYSKY, NY | FIX | (Lat. 40°46′52.75″ N, long. 072°12′21.45″ W)
* * * * * * *
Q-481 CONFR, MD to Deer Park, NY (DPK) [New]
CONFR, MD | WP | (Lat. 38°16′10.90″ N, long. 075°24′32.98″ W)
MGERK, DE | WP | (Lat. 38°46′16.00″ N, long. 075°18′09.00″ W)
LEEAH, NJ | FIX | (Lat. 39°15′39.27″ N, long. 074°57′11.01″ W)
ZIGGI, NJ | FIX | (Lat. 40°03′07.01″ N, long. 074°00′49.34″ W)
Deer Park, NY (DPK) | VOR/DME | (Lat. 40°47′30.30″ N, long. 073°18′13.17″ W)

* * * * *

Issued in Washington, DC, on May 24, 2022.
Scott M. Rosenbloom,
Manager, Airspace Rules and Regulations.

[FR Doc. 2022-11552 Filed 5-31-22; 8:45 am]

BILLING CODE 4910-13-P